NUCLEAR REGULATORY COMMISSION

[Docket No. 030-04983, License No. 22-01376-02, EA-00-169]

In the Matter of Stork/Twin City Testing St. Paul, MN; Order Imposing Civil Monetary Penalty

I

Stork/Twin City Testing (Licensee) is the holder of Materials License No. 22-01376-02 issued by the Nuclear Regulatory Commission (NRC or Commission) on August 2, 1999, and amended in its entirety on June 16, 2000. The license authorizes the Licensee to perform industrial radiography in accordance with the conditions specified therein.

II

An inspection of the Licensee's activities was conducted January 25 through February 24, 2000, and an investigation by the NRC Office of Investigations was initiated on February 7, 2000. The results of the inspection and investigation indicated that the Licensee had not conducted its activities in full compliance with NRC requirements. A written Notice of Violation and Proposed Imposition of Civil Penalty (Notice) was served upon the Licensee by letter dated December 15, 2000. The Notice states the nature of the violation, the provision of the NRC's requirements that the Licensee violated, and the amount of the civil penalty proposed for the violation.

The Licensee responded to the Notice in a letter dated December 21, 2000. In its response, the Licensee did not contest the violation, but requested reconsideration of the amount of the civil penalty based on the safety significance of the violation, the duration of the violation while Stork was involved, and that the violation occurred at only one location of use.

III

After considering the Licensee's response and the statements of fact, explanation, and argument for mitigation contained therein, the NRC staff has determined that the violation occurred as stated in the Notice, that the licensee has not provided a sufficient basis to warrant reduction of the civil monetary penalty, and that therefore the civil monetary penalty in the amount of $11,000 should be imposed.

IV

In view of the foregoing and pursuant to Section 234 of the Atomic Energy Act of 1954, as amended (Act), 42 U.S.C. 2282, and 10 CFR 2.205, It Is Hereby Ordered That:

The Licensee pay a civil penalty in the amount of $11,000 within 30 days of the date of this Order, in accordance with NUREG/BR-0254. In addition, at the time of making the payment, the licensee shall submit a statement indicating when and by what method payment was made, to the Director, Office of Enforcement, U.S. Nuclear Regulatory Commission, One White Flint North, 11555 Rockville Pike, Rockville, MD 20852-2738.

V

The Licensee may request a hearing within 30 days of the date of this Order. Where good cause is shown, consideration will be given to extending the time to request a hearing. A request for extension of time must be made in writing to the Director, Office of Enforcement, U.S. Nuclear Regulatory Commission, Washington, DC 20555, and include a statement of good cause for the extension. A request for a hearing should be clearly marked as a “Request for an Enforcement Hearing” and shall be submitted to the Secretary, U.S. Nuclear Regulatory Commission, ATTN: Rulemakings and Adjudications Staff, Washington, DC 20555. Copies shall also be sent to the Director, Office of Enforcement, U.S. Nuclear Regulatory Commission, Washington, DC 20555, to the Assistant General Counsel for Materials Litigation and Enforcement at the same address, and to the Regional Administrator, NRC Region III, 801 Warrenville Road, Lisle, IL 60532-4351.

If a hearing is requested, the Commission will issue an Order designating the time and place of the hearing. If the Licensee fails to request a hearing within 30 days of the date of this Order (or if written approval of an extension of time in which to request a hearing has not been granted), the provisions of this Order shall be effective without further proceedings. If payment has not been made by that time, the matter may be referred to the Attorney General for collection.

In the event the Licensee requests a hearing as provided above, the issues to be considered at such hearing shall be whether, on the basis of the findings made by the staff, this Order should be sustained.

Dated this 20th day of February 2001.
For the Nuclear Regulatory Commission.
R.W. Borchardt,
Director, Office of Enforcement.

[FR Doc. 01-4960 Filed 2-28-01; 8:45 am]

BILLING CODE 7590-01-P